DEPARTMENT OF THE INTERIOR

Fish and Wildlife Service

50 CFR Part 17

RIN 1018-AI26

Endangered and Threatened Wildlife and Plants; Critical Habitat Designation for Four Vernal Pool Crustaceans and Eleven Vernal Pool Plants in California and Southern Oregon

AGENCY: Fish and Wildlife Service, Interior.

ACTION: Proposed rule; notice of public hearing.

SUMMARY: We, the Fish and Wildlife Service (Service), provide notice that we are holding three public hearings to take oral comments regarding the proposed rule to designate critical habitat for 4 crustaceans and 11 plants endemic to vernal pools in California and southern Oregon.

DATES: We will hold public hearings and a public informational meeting at the following dates and times:

October 22, 2002:

San Luis Obispo, CA

First public hearing: 1 p.m. until 3 p.m.; registration begins at 12:30 p.m. Second public hearing: 6 p.m. until 8 p.m.; registration begins at 5:30 p.m. October 24, 2002:

Sacramento, CA

First public hearing: 1 p.m. until 3 p.m.; registration begins at 12:30 p.m.

Second public hearing: 6 p.m. until 8 p.m.; registration begins at 5:30 p.m.

Medford, OR

Public informational meeting: 1:30 p.m. until 3:30 p.m.

Public hearing: 6 p.m. until 8 p.m.; registration begins at 5:30 p.m.

Written comments on the proposed rule (67 FR 59884) must still be received by the date published in the proposed rule.

ADDRESSES: The public hearings and public informational meeting will be held at the following locations:

San Louis Obispo, CA: Embassy Suites, 333 Madonna Road.

Sacramento, CA: Radisson Hotel, 500 Leisure Lane.

Medford, OR: Red Lion Hotel, 200 N. Riverside Avenue.

Written comments and materials concerning the proposed critical habitat designation for 4 vernal pool crustaceans and 11 vernal pool plants in California and Southern Oregon (67 FR 59884) should be sent to Wayne S. White, Field Supervisor, Sacramento Fish and Wildlife Office, U.S. Fish and Wildlife Service, 2800 Cottage Way Room W-2605, Sacramento, CA 95825. Written comments may also be sent by facsimile to 916/414-6713 or through the internet to fwl_vernalpool@fws.gov. You may also hand-deliver written comments to our Sacramento Fish and Wildlife Office, at the above address, or at any of the public hearings mentioned above.

Comments and materials received, as well as supporting documentation used in the preparation of the proposed critical habitat designation rule, will be available for public inspection, by appointment, during normal business hours, at the above address. You may obtain copies of the proposed rule from the above address, by calling 916/414-6600, or from our Web site at http://sacramento.fws.gov.

FOR FURTHER INFORMATION CONTACT: Arnold Roessler or Susan Moore at the above address (telephone 916/414-6600, facsimile 916/414-6713 or visit our Web site at http://sacramento.fws.gov/). Information regarding this proposal is available in alternative formats upon request.

SUPPLEMENTARY INFORMATION:

Background

On September 24, 2002, we published a proposed rule to designate critical habitat, pursuant to the Endangered Species Act of 1973, as amended (Act) for 4 vernal pool crustaceans and 11 vernal pool plants (67 FR 59884). The purpose of the public hearings announced here is to take oral comments on the proposed critical habitat designation.

Critical habitat consists of specific areas on which are found physical or biological characteristics essential to the conservation of a threatened or endangered species. The designation of critical habitat does not establish a preserve or regulate purely private uses of land. However, the Act does require Federal agencies to avoid taking actions that are likely to result in the destruction or adverse modification of critical habitat and to consult with us regarding how to best to avoid such destruction or adverse modification. Critical habitat designations also inform the public regarding areas of special importance for the conservation of the threatened or endangered species involved.

The four vernal pool crustaceans involved in this critical habitat designation are the Conservancy fairy shrimp (Branchinecta conservatio), longhorn fairy shrimp (Branchinecta longiantenna), vernal pool fairy shrimp (Branchinecta lynchi) and vernal pool tadpole shrimp (Lepidurus packardi). The eleven vernal pool plant species are Butte County meadowfoam (Limnanthes floccosa ssp. californica), Contra Costa goldfields (Lasthenia conjugens), Hoover's spurge (Chamaesyce hooveri), succulent (or fleshy) owl's-clover (Castilleja campestris ssp. succulenta), Colusa grass (Neostapfia colusana), Greene's tuctoria (Tuctoria greenei), hairy Orcutt grass (Orcuttia pilosa), Sacramento Orcutt grass (Orcuttia viscida), San Joaquin Valley Orcutt grass (Orcuttia inaequalis), slender Orcutt grass (Orcuttia tenuis), and Solano grass (Tuctoria mucronata). We are proposing a total of 128 units of critical habitat for these 15 species, totaling approximately 672,920 hectares (ha) (1,662,762 acres (ac)) in 36 counties in California and one county in Oregon.

All the species listed above live in vernal pools (shallow depressions that hold water seasonally), swales (shallow drainages that carry water seasonally), and ephemeral freshwater habitats. None are known to occur in riverine waters, marine waters, or other permanent bodies of water. The vernal pool habitats of these species have a discontinuous distribution west of the Sierra Nevada that extends from southern Oregon through California into northern Baja California, Mexico. The species have all adapted to the generally mild climate and seasonal periods of inundation and drying which help make the vernal pool ecosystems of California and southern Oregon unique.

Public Comments Solicited

We solicit additional information and comments that may assist us in making a final decision on the proposed rule to designate critical habitat for 4 vernal pool crustaceans and 11 vernal pool plants. We intend our final critical habitat designation to identify as accurately and effectively as possible those areas possessing characteristics essential to the conservation of the species. We will also take into account any economic or other impacts which this designation might cause. Therefore, we request comments and additional information from the general public, other concerned governmental agencies, the scientific community, industry, or any other interested party concerning this proposed rule. Comments are particularly sought concerning:

(1) The reasons why any habitat should or should not be determined to be critical habitat as provided by section 4 of the Act, including whether areas under consideration require additional special management;

(2) Specific information on the amount and distribution of any of the vernal pool crustaceans or vernal pool plants and what habitat is essential to the conservation of these species and why;

(3) Land use designations and current or planned activities in the subject areas and their possible impacts on proposed critical habitat; in particular, in Oregon, we seek information related to potential of selected parcels to contribute to the species recovery, considering their zoning, adjacent land uses, watershed integrity, and potential for edge effects (related to shape of parcel);

(4) Any foreseeable economic or other impacts resulting from the proposed designation of critical habitat, in particular, any impacts on small entities or families;

(5) Economic and other values associated with designating critical habitat for vernal pool crustaceans and vernal pool plants such as those derived from non-consumptive uses (e.g., hiking, camping, bird-watching, enhanced watershed protection, improved air quality, increased soil retention, “existence values,” and reductions in administrative costs);

(6) Whether any areas should be excluded pursuant to section 4(b)(2); and

(7) Whether our approach to critical habitat designation could be improved or modified in any way to provide for greater public participation and understanding, or to assist us in accommodating public concern and comments.

Anyone wishing to make an oral comment or statement for the record at any of the hearings listed above is encouraged (but not required) to also provide a written copy of the statement and to present it to us at the hearing. Oral comments will be transcribed. In the event there is a large attendance, the time allotted for oral statements may be limited. Oral and written statements receive equal consideration. There are no limits to the length of written comments presented at the hearing or mailed, faxed or emailed to us. Legal notices announcing the date, time, and location of the public hearings will be published in newspapers concurrently with this Federal Register notice. We will hold public informational meetings in various locations in California and will publicize the dates and locations in the local news media.

Persons needing reasonable accommodations in order to attend and participate in the public hearing should contact Patti Carroll at 503/231-2080 as soon as possible. In order to allow sufficient time to process requests, please call no later than one week before the hearing date.

Previously submitted written comments on this proposal need not be resubmitted. Please submit electronic mail comments as an ASCII file and avoid the use of special characters and any form of encryption. Please also include “Attn: [RIN 1018-AI26]” and your name and return address in your electronic message. If you do not receive a confirmation from our system that we have received your e-mail message, contact us directly by calling our Sacramento Fish and Wildlife Office at telephone number 916/414-6600. Comments and materials received will be available for public inspection, by appointment, during normal business hours at the Sacramento Fish and Wildlife Office, at the above address.

Author

The primary author of this notice is Glen Tarr (see ADDRESSES section).

Authority: The authority for this action is the Endangered Species Act of 1973 (16 U.S.C. 1531 et seq.).

Dated: October 1, 2002.
Paul Hoffman,
Acting Assistant Secretary for Fish and Wildlife and Parks.

[FR Doc. 02-25720 Filed 10-9-02; 8:45 am]

BILLING CODE 4310-55-P